DEPARTMENT OF ENERGY

Federal Energy Regulatory Commission

[Docket No. EC04-118-000, et al.]

Black Hills Corporation, et al.; Electric Rate and Corporate Filings

June 16, 2004.

The following filings have been made with the Commission. The filings are listed in ascending order within each docket classification.

1. Black Hills Corporation Xcel Energy Inc. Cheyenne Light, Fuel & Power Company

[Docket No. EC04-118-000]

Take notice that on June 14, 2004, Black Hills Corporation (Black Hills), Xcel Energy Inc., (Xcel Energy), and Cheyenne Light, Fuel and Power Company (CLF&P) filed an application under section 203 of the Federal Power Act requesting approval for the sale by Xcel Energy of all of the capital stock of CLF&P to Black Hills.

Comment Date: July 6, 2004.

2. Calpine Energy Services, L.P. Delta Energy Center, LLC CES Marketing III, LLC

[Docket No. EC04-119-000]

Take notice that on June 14, 2004, Calpine Energy Services, L.P. (CESLP), Delta Energy Center, LLC, and CES Marketing III, LLC tendered for filing an application under section 203 of the Federal Power Act for approval of the assignment by CESLP of a wholesale power sales agreement between CESLP and the California Department of Water Resources.

Comment Date: July 6, 2004.

3. Orion Power Holdings, Inc.; Great Lakes Power Inc.; Brascan Power Hudson River LLC; Brascan Power St. Lawrence River LLC; Brascan Power Lake Ontario LLC

[Docket No. EC04-120-000]

Take notice that on June 14, 2004, Orion Power Holdings, Inc. et al., (Orion) and Great Lakes Power Inc. (GLPI) Brascan Power Hudson River LLC, Brascan Power St. Lawrence River LLC, and Brascan Power Lake Ontario LLC filed with the Federal Energy Regulatory Commission an application, pursuant to section 203 of the Federal Power Act and Part 33 of the Commission's regulations, seeking authorization for a two-step transfer of ownership interests and assets.

Comment Date: July 6, 2004.

4. South Jersey Energy Company

[Docket No. ER97-1397-011]

Take notice that on June 14, 2004, South Jersey Energy Company filed an amendment to its market-based rate tariff in compliance with the Commission's Order issued November 17, 2003 in Docket No. EL01-118-000, Investigation of Terms and Conditions of Public Utility Market-Based Rate Authorizations, 105 FERC ¶ 61,218 (2003).

Comment Date: July 6, 2004.

5. ISO New England Inc.

[Docket No. ER02-2330-027]

Take notice that on June 14, 2004, ISO New England Inc. submitted a compliance filing providing a status report on the implementation of Standard Market Design in New England pursuant to the Commission's order issued September 20, 2002 in Docket Nos. ER02-2330-000 and EL00-62-039.

Comment Date: July 6, 2004.

6. American Electric Power Service Corporation

[Docket No. ER04-79-001]

Take notice that on June 14, 2004, the American Electric Power Service Corporation as agent for Indiana Michigan Power Company (AEP) tendered for filing proposed amendments to a Facilities Agreement between AEP and Covert Generating Company, L.L.C (CGC) originally filed with the Commission on October 24, 2003 in Docket No. ER04-79-000. AEP requests an effective date of December 23, 2003.

AEP states that a copy of the filing was served upon CGC, the Indiana Utility Regulatory Commission and the Michigan Public Service Commission.

Comment Date: July 6, 2004.

7. PPL Distributed Generation, LLC

[Docket No. ER04-671-001]

On June 9, 2004, PPL Distributed Generation, LLC (PPL Distributed Generation) submitted for filing a “Request for Extension of Time and Establishment of Effective Date.” PPL Distributed Generation requests that the Commission grant an extension of time until November 9, 2004 for PPL Distributed Generation to submit a revised market power study as required by the Commission's order issued May 13, 2004, Acadia Power Partners, LLC, 107 FERC ¶ 61,168. PPL Distributed Generation also requests that its Market-Based Rate Tariff be made effective as of May 24, 2004, sixty days from the date of the filing of its application for market-based rate authority, subject to refund if the Commission later finds that PPL Distributed Generation possesses generation market power.

Comment Date: June 30, 2004.

8. Idaho Power Company

[Docket No. ER04-739-001]

Take notice that on June 14, 2004 Idaho Power Company (Idaho Power) submitted a compliance filing pursuant to the Commission's letter order issued May 28, 2004.

Comment Date: July 6, 2004.

9. American Electric Power Service Corporation

[Docket No. ER04-924-000]

Take notice that on June 14, 2004, the American Electric Power Service Corporation (AEPSC), tendered for filing a service agreement for Long-Term Firm Point-to-Point Transmission Service between AEPSC and Duke Energy Trading and Marketing, L.L.C. AEPSC requests an effective date of June 1, 2004.

AEPSC states that a copy of the filing was served upon the Parties and the state utility regulatory commissions of Arkansas, Indiana, Kentucky, Louisiana, Michigan, Ohio, Oklahoma, Tennessee, Texas, Virginia and West Virginia.

Comment Date: July 6, 2004.

10. Merrill Lynch Commodities, Inc.

[Docket No. ER04-925-000]

Take notice that on June 14, 2004, Merrill Lynch Commodities, Inc. (MLCI) submitted for filing an “Application for Order Accepting Initial Rate Schedule, Blanket Authorizations and Certain Waivers and Request for Expedited Consideration.” MLCI states that MLCI's Rate Schedule FERC No. 1; the granting of certain blanket approvals, including the authority to sell electricity at market-based rates; and the waiver of certain Commission regulations.

Comment Date: July 6, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1410 Filed 6-23-04; 8:45 am]

BILLING CODE 6717-01-P